FEDERAL COMMUNICATIONS COMMISSION

Senior Executive Service Performance Review Board

As required by the Civil Service Reform Act of 1978 (Pub. L. 95-454), Chairman Thomas Wheeler appointed the following executive to the Senior Executive Service Performance Review Board (PRB): Jon S. Wilkins, Jr.

Federal Communications Commission.
Marlene H. Dortch,
Secretary.

[FR Doc. 2016-10355 Filed 5-3-16; 8:45 am]

BILLING CODE 6712-01-P